DEPARTMENT OF ENERGY

Federal Energy Regulatory Commission

Notice of Commissioner and Staff Attendance at National Association of Regulatory Utility Commissioners 123rd Annual Meeting

The Federal Energy Regulatory Commission (FERC or Commission) hereby gives notice that members of the Commission and/or Commission staff may attend the following meeting:

FERC/National Association of Regulatory Utility Commissioners Collaborative, on Smart Response and Emerging Issues, November 13, 2011 (8 a.m.-11:15 a.m.), Renaissance St. Louis Grand Hotel, 800 Washington Avenue, St. Louis, MO 63101.

Further information may be found at http://annual.narucmeetings.org/program.cfm.

The discussions at this meeting, which is open to the public, may address matters at issue in the following Commission proceedings:

Docket No. RM10-23, Transmission Planning and Cost Allocation by Transmission Owning and Operating Public Utilities

Docket No. RM11-26, Promoting Transmission Investment Through Pricing Reform

Docket No. ER10-1791, Midwest Independent Transmission System Operator, Inc.

Dated: November 9, 2011.
Kimberly D. Bose,
Secretary.

[FR Doc. 2011-29545 Filed 11-15-11; 8:45 am]

BILLING CODE 6717-01-P